ENVIRONMENTAL PROTECTION AGENCY

[EPA-HQ-OECA-2012-0654; FRL-9531-8]

Agency Information Collection Activities; Submission to OMB for Review and Approval; Comment Request; NSPS for Automobile and Light Duty Truck Surface Coating Operations (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before July 19, 2013.

ADDRESSES: Submit your comments, referencing docket ID number EPA-HQ-OECA-2012-0654, to: (1) EPA online, using www.regulations.gov (our preferred method), or by email to: docket.oeca@epa.gov, or by mail to: EPA Docket Center (EPA/DC), Environmental Protection Agency, Enforcement and Compliance Docket and Information Center, mail code 28221T, 1200 Pennsylvania Avenue NW., Washington, DC 20460; and (2) OMB at: Office of Information and Regulatory Affairs, Office of Management and Budget (OMB), Attention: Desk Officer for EPA, 725 17th Street NW., Washington, DC 20503.

FOR FURTHER INFORMATION CONTACT: Learia Williams, Monitoring, Assistance, and Media Programs Division, Office of Compliance, Mail Code 2227A, Environmental Protection Agency, 1200 Pennsylvania Avenue NW., Washington, DC 20460; telephone number: (202) 564-4113; fax number: (202) 564-0050; email address: williams.learia@epa.gov.

SUPPLEMENTARY INFORMATION: EPA has submitted the following ICR to OMB for review and approval according to the procedures prescribed in 5 CFR 1320.12. On October 17, 2012 (77 FR 63813), EPA sought comments on this ICR pursuant to 5 CFR 1320.8(d). EPA received no comments. Any additional comments on this ICR should be submitted to both EPA and OMB within 30 days of this notice.

EPA has established a public docket for this ICR under docket ID number EPA-HQ-OECA-2012-0654, which is available for either public viewing online at http://www.regulations.gov, or in person viewing at the Enforcement and Compliance Docket in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Enforcement and Compliance Docket is (202) 566-1752.

Use EPA's electronic docket and comment system at http://www.regulations.gov to either submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, Confidentiality of Business Information (CBI), or other information whose public disclosure is restricted by statute. For further information about the electronic docket, go to www.regulations.gov.

Title: NSPS for Automobile and Light Duty Truck Surface Coating Operations (Renewal)

ICR Numbers: EPA ICR Number 1064.17, OMB Control Number 2060-0034

ICR Status: This ICR is scheduled to expire on June 30, 2013. Under OMB regulations, the Agency may continue to either conduct or sponsor the collection of information while this submission is pending at OMB.

Abstract: The affected entities are subject to the General Provisions of the NSPS at 40 CFR part 60, subpart A, and any changes, or additions to the Provisions specified at 40 CFR part 60, subpart MM. Owners or operators of the affected facilities must submit an initial notification report, performance tests, and periodic reports and results. Owners or operators are also required to maintain records of the occurrence and duration of any startup, shutdown, or malfunction in the operation of an affected facility, or any period during which the monitoring system is inoperative. Reports are required semiannually at a minimum.

Respondents/Affected Entities: Owners or operators of facilities that conduct automobile and light duty truck surface coating operations

Estimated Number of Respondents: 60

Frequency of Response: Initially, quarterly, and semiannually

Estimated Total Annual Hour Burden: 175,195. “Burden” is defined at 5 CRF 1320.3 (b)

Estimated Total Annual Cost: $17,067,068, which includes $16,963,868 in labor costs, $1,700 in capital/startup costs, and $101,500 in operation and maintenance (O&M) costs.

Changes in the Estimates: There is an increase in burden for both the respondents and the Agency from the most recently approved ICR. The adjustment increase reflects an increased number of respondents subject to the standard since the last ICR. This ICR uses updated data from OTIS in estimating the respondent universe, which is consistent with the projected industry growth in the previous ICR. This ICR also uses updated labor rates in calculating all burden costs, thus the overall result is an increase in labor hours, labor costs, as well as in total O&M costs

This ICR corrects a mathematical error in calculating the number of responses. Furthermore, we corrected the number of sources that are required to maintain continuous monitoring system (CMS) in Table 1, line item 5. This ICR assumes that all sources incur costs associated with CMS and data management systems, which is consistent with the methodology used in calculating O&M costs. These changes also contribute to an increase in the number of total responses, as well as an increase in labor hours and costs.

John Moses,
Director, Collection Strategies Division.

[FR Doc. 2013-14487 Filed 6-18-13; 8:45 am]

BILLING CODE 6560-50-P